ENVIRONMENTAL PROTECTION AGENCY

[EPA-HQ-OPPT-2019-0237; FRL-9283-02-OCSPP]

Cyclic Aliphatic Bromide Cluster (HBCD); Draft Revision to Toxic Substances Control Act (TSCA) Risk Determination; Reopening of the Comment Period

AGENCY: Environmental Protection Agency (EPA).

ACTION: Notice, reopening of comment period.

SUMMARY: In the Federal Register of December 29, 2021, EPA announced the availability of and solicited public comment on a draft revision to the risk determination for the Cyclic Aliphatic Bromide Cluster (HBCD) risk evaluation under the Toxic Substances Control Act (TSCA). This document reopens the comment period for 15 days.

DATES: The comment period for the notice published on December 29, 2021, at 86 FR 74082, is reopened. Comments, identified by docket identification (ID) number EPA-HQ-OPPT-2019-0237, must be received by EPA on or before March 4, 2022.

ADDRESSES: Submit your comments, identified by docket identification (ID) number EPA-HQ-OPPT-2019-0237, using the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA Docket Center (EPA/DC) and Reading Room is open to visitors by appointment only. For the latest status information on EPA/DC services and docket access, visit https://www.epa.gov/dockets.

FOR FURTHER INFORMATION CONTACT: For technical information contact: Alie Muneer, Existing Chemical Risk Management Division (Mail Code 7404T), Office of Pollution Prevention and Toxics, Environmental Protection Agency, 1200 Pennsylvania Ave. NW, Washington, DC 20460-0001; telephone number: (202) 564-6369; email address: muneer.alie@epa.gov.

For general information contact: The TSCA-Hotline, ABVI-Goodwill, 422 South Clinton Ave., Rochester, NY 14620; telephone number: (202) 554-1404; email address: TSCA-Hotline@epa.gov.

SUPPLEMENTARY INFORMATION: This document reopens the public comment period established in the Federal Register document of December 29, 2021 (86 FR 74082) (FRL-9283-01-OCSPP), for 15 days. In that document, EPA announced the availability of and solicited public comment on the draft revision to the risk determination for the HBCD risk evaluation under TSCA. More information on EPA's draft revision and solicitation of comment can be found in the Federal Register issue of December 29, 2021.

EPA received requests to reopen the comment period and believes it is appropriate to do so in order to give stakeholders additional time to review the document and prepare comments.

To submit comments, or access the docket, please follow the detailed instructions provided under ADDRESSES. If you have questions, consult the technical person listed under FOR FURTHER INFORMATION CONTACT.

Authority: 15 U.S.C. 2601 et seq.

Michal Freedhoff,
Assistant Administrator, Office of Chemical Safety and Pollution Prevention.

[FR Doc. 2022-03452 Filed 2-16-22; 8:45 am]

BILLING CODE 6560-50-P